DEPARTMENT OF HEALTH AND HUMAN SERVICES

National Institutes of Health

National Cancer Institute; Amended Notice of Meeting

Notice is hereby given of a change in the meeting of the National Cancer Advisory Board, November 30, 2015, 6:30 p.m. to December 2, 2015, 12:00 p.m., National Institutes of Health, Building 31, 31 Center Drive, Bethesda, MD, 20892 which was published in the Federal Register on October 27, 2015, 80 FR 65785.

The open session on December 2, 2015 has been canceled. The meeting is partially closed to the public.

Dated: November 5, 2015.
Melanie J. Gray,
Program Analyst, Office of Federal Advisory Committee Policy.

[FR Doc. 2015-28583 Filed 11-9-15; 8:45 am]

BILLING CODE 4140-01-P